DEPARTMENT OF THE INTERIOR

Bureau of Land Management

[LLIDT03000-L14300000.EU0000; IDI-35249]

Notice of Realty Action: Segregation To Consider Proposed Sale of Public Lands in Blaine County, ID

AGENCY: Bureau of Land Management, Interior.

ACTION: Notice of realty action.

SUMMARY: The Bureau of Land Management (BLM), Shoshone Field Office, proposes to sell a parcel of public land totaling approximately 3.4 acres in Blaine County, Idaho, to the Point of Rocks Ranch, LLC under the provisions of the Federal Land Policy Management Act of 1976 (FLPMA), at no less than the appraised fair market value.

DATES: In order to ensure consideration of your comments regarding this Notice of Realty Action (NORA), as well as the environmental analysis of the proposed sale, comments must be received by the BLM on or before December 10, 2010.

ADDRESSES: Address all comments concerning this NORA to the Field Manager, BLM Shoshone Field Office, 400 West F Street, Shoshone, Idaho 83352.

FOR FURTHER INFORMATION CONTACT: Tara Hagen, Realty Specialist, BLM Shoshone Field Office, at the above address or telephone (208) 732-7205.

SUPPLEMENTARY INFORMATION: The following described public land is being proposed for direct sale to the Point of Rocks Ranch, LLC in accordance with Sections 203 and 209 of FLPMA, as amended (43 U.S.C. 1713 and 1719), and implementing regulations at 43 CFR part 2710 and 2720, at no less than the appraised fair market value:

Boise Meridian

T. 1 S., R. 20 E.,

Sec. 15, that portion of public lands in the NW¼SW¼ lying south of the North Picabo Road.

The area described contains approximately 3.4 acres in Blaine County.

The 1981 BLM Sun Valley Management Framework Plan, as amended by the 2003 Amendments to the BLM Shoshone Field Office Land Use Plans for Land Tenure Adjustment and Areas of Critical Environmental Concern, identifies this parcel of public land as suitable for disposal. The BLM is proposing a direct sale to resolve an inadvertent unauthorized use and occupancy of the lands. Conveyance of the identified public land will be subject to valid existing rights and encumbrances of record, including but not limited to, rights-of-way for roads and public utilities. Conveyance of any mineral interests pursuant to Section 209 of FLPMA will be analyzed during processing of the proposed sale.

On October 26, 2010, the above-described land will be segregated from appropriation under the public land laws, including the mining laws, except the sale provisions of FLPMA. The BLM is no longer accepting land use applications affecting the identified public land, except applications for the amendment of previously filed right-of-way applications or existing authorizations to increase the term of the grants in accordance with 43 CFR 2807.15 and 2886.15. The segregative effect will terminate upon issuance of a patent, publication in the Federal Register of a termination of the segregation, or October 26, 2012 unless extended by the BLM State Director in accordance with 43 CFR 2711.1-2(d) prior to the termination date.

Public Comments: For a period until December 10, 2010, interested parties and the general public may submit in writing any comments concerning the land being considered for direct sale, including notification of any encumbrances or other claims relating to the identified land, to the Field Manager, BLM Shoshone Field Office, at the above address. In order to ensure consideration in the environmental analysis of the proposed sale, comments must be in writing and postmarked or delivered within 45 days of the initial date of publication of this NORA. Comments transmitted via e-mail will not be accepted. Comments, including names and street addresses of respondents, will be available for public review at the BLM Shoshone Field Office during regular business hours, except holidays.

Before including your address, phone number, e-mail address, or other personal identifying information in your comment, you should be aware that your entire comment—including your personal identifying information—may be made publicly available at any time. While you can ask us in your comment to withhold your personal identifying information from public review, we cannot guarantee that we will be able to do so.

Authority: 43 CFR 2711.1-2.

Ruth A. Miller,
Shoshone Field Manager.

[FR Doc. 2010-27041 Filed 10-25-10; 8:45 am]

BILLING CODE 4310-GG-P